DEPARTMENT OF DEFENSE

Department of the Army

[Docket ID: USA-2008-0040]

Privacy Act of 1974; System of Records

AGENCY: Department of the Army, DoD.

ACTION: Notice to Amend a System of Records.

SUMMARY: The Department of the Army is amending a system of records notice in its existing inventory of record systems subject to the Privacy Act of 1974 (5 U.S.C. 552a), as amended.

DATES: This proposed action will be effective without further notice on August 25, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: July 17, 2008.
Patricia L. Toppings,
OSD Federal Register Liaison Officer, Department of Defense.

A0190-40 DAMO

System name:

Serious Incident Reporting Files (February 22, 1993, 58 FR 10002).

Changes:

Change System Identifier to “A0190-45b OPMG”.

* * * * *

Authority for maintenance of the system:

Delete entry and replace with “10 U.S.C. 3013; Secretary of the Army; AR 190-45, Law Enforcement Reporting and E.O. 9397 (SSN).”

* * * * *

A0190-45b DAMO

System name:

Serious Incident Reporting Files.

System location:

Primary location:

Office of the Deputy Chief of Staff for Operations and Plans, ATTN: DAMO-ODL, Headquarters, Department of the Army, Washington, DC 20310-0440. Segments are maintained at the installation initiating the report and at the respective major Army command.

Categories of individuals covered by the system:

Any citizen identified as the subject or victim of a serious incident reportable to Department of the Army in accordance with Army Regulation 190-40, Serious Incident Report. This includes in general any criminal act or other incident which, because of its sensitivity or nature, publicity or other considerations should be brought to the attention of Headquarters, Department of the Army.

Categories of records in the system:

Records include the initial report of the incident plus any supplemental reports, including reports of final adjudication.

Authority for maintenance of the system:

10 U.S.C. 3013; Secretary of the Army; AR 190-45, Law Enforcement Reporting and E.O. 9397 (SSN).

Purpose(s):

To provide the military chain of command with timely information regarding serious incidents to permit a valid early determination of possible implication; to provide an early indication of acts or conditions which may have widespread adverse publicity; to provide a means of analysis of crime and conditions conducive to crime on which to base crime prevention policies and programs; and to meet the general needs of Department of the Army staff agencies for information regarding selected incidents which impact on their respective areas of responsibility.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

Policies and practices for storing, retrieving, accessing, retaining, and disposing of records in the system:

Storage:

Paper records in file folders.

Retrievability:

By individual's name, Social Security Number, and installation number.

Safeguards:

Buildings employ security guards and control access. Distribution and access to files are based on strict need-to-know. Records are contained in locked safes when not under personal supervision of authorized personnel.

Retention and disposal:

Destroyed 1 year after final report is completed.

System manager(s) and address:

Deputy Chief of Staff for Operations and Plans, ATTN: DAMO-ODL, Headquarters, Department of the Army, Washington, DC 20310-0440.

Notification procedure:

Individuals seeking to determine whether information about themselves is contained in this system should address written inquiries to the Deputy Chief of Staff for Operations and Plans, ATTN: DAMO-ODL, Headquarters, Department of the Army, Washington, DC 20310-0440.

Individual should provide the full name, Social Security Number, current address and telephone number, other information verifiable from the record itself, and signature.

Record access procedures:

Individuals seeking access to information about themselves contained in this system should address written inquiries to the Deputy of Staff for Operations and Plans, ATTN: DAMO-ODL, Headquarters, Department of the Army, Washington, DC 20310-0440.

Individual should provide the full name, Social Security Number, current address and telephone number, other information verifiable from the record itself, and signature.

Contesting record procedures:

The Army's rules for accessing records, and for contesting contents and appealing initial agency determinations are contained in Army Regulation 340-21; 32 CFR part 505; or may be obtained from the system manager.

Record source categories:

Subjects, witnesses, victims, military police and U.S. Army Criminal Investigation Command personnel and special agents, informants, various Department of Defense, federal, state and local investigative and law enforcement agencies, departments or agencies of foreign governments, and any other individuals or organizations which may supply pertinent information.

Exemptions claimed for the system:

Parts of this system may be exempt under 5 U.S.C. 552a(j)(2), as applicable.

An exemption rule for this system has been promulgated in accordance with requirements of 5 U.S.C. 553(b)(1), (2), and (3), (c) and (e) and published in 32 CFR part 505. For additional information contact the system manager.

[FR Doc. E8-17015 Filed 7-24-08; 8:45 am]

BILLING CODE 5001-06-P